DEPARTMENT OF HEALTH AND HUMAN SERVICES

Administration for Children and Families

Statement of Organization, Functions and Delegation of Authority

Notice is hereby given that I have redelegated to the Director, Division of State Temporary Assistance for Needy Families (TANF) Policy with respect to State and territorial programs, and to the Director, Division of Tribal TANF Management with respect to tribal programs, the following authorities invested in me by the Director, Office of Family Assistance, in the memoranda dated April 17, 2007.

(a) Authorities Delegated

1. The authority to respond to general inquiries about established State and territorial TANF programs, territorial Adult Assistance Programs, and Tribal TANF and Native Employment Works (NEW) programs, to explain existing program policies for these programs, and to suggest referrals, when appropriate, to other government agencies and private organizations.

2. The authority to clarify and interpret existing Adult Assistance, TANF and NEW program policies and procedures affecting, where applicable, State, territorial, and tribal grantees.

3. The authority to deem State and territorial TANF plans as complete.

4. The authority to approve plans and amendments for the Tribal TANF and NEW programs.

5. The authority to provide and approve comments on State, territorial, and tribal corrective compliance plans submitted in response to a TANF penalty determination.

6. The authority to respond to inquiries about discretionary grants for the Tribal TANF—Child Welfare initiative.

(b) Limitations

1. This delegation of authority shall be exercised under the Department's existing policies on delegations and regulations.

2. The authority to respond to general inquiries relative to established State, territorial, and tribal programs or to inquire about specific grantee policies and operations requires notification to the appropriate TANF Regional Program Manager of the response given.

3. The authority to clarify and interpret existing program policies and procedures requires prior consultation with the Associate Director, TANF and the Director, OFA if such clarifications and interpretations are likely to have a significant impact on States, territories, and tribes or have political ramifications or be subject to adverse publicity.

4. The authority to deem State TANF plans as complete requires prior consultation with the appropriate TANF Regional Program Manager.

5. The authority to approve Tribal TANF and NEW plans and amendments requires prior consultation with the appropriate TANF Regional Program Manager.

6. The authority to provide and approve comments on State, territorial, and tribal corrective compliance plans requires prior consultation with the appropriate TANF Regional Program Manager.

7. The authority to respond to inquiries about discretionary grants for the Tribal TANF—Child Welfare initiative requires prior consultation with the Associate Director, TANF on any responses that establish a new precedent or have political implications.

(c) Effective Date

This delegation is effective upon the date of signature.

(d) Effect on Existing Delegations

This delegation of authority supersedes the February 10, 2003 delegations of authority to approve Tribal TANF and NEW plans to the Director, Division of Tribal TANF Management.

This delegation is in addition to the authority contained in the redelegation dated June 8, 2007 to the TANF Regional Program Managers.

I hereby affirm and ratify any actions taken by the Director, Division of State TANF Policy and the Director, Division of Tribal TANF Management, Office of Family Assistance, which involved the exercise of the authorities delegated herein prior to the effective date of this delegation.

Date: July 18, 2007.
Katherine Bradley,
Associate Director, TANF.

[FR Doc. E7-15721 Filed 8-9-07; 8:45 am]

BILLING CODE 4184-01-P